DEPARTMENT OF HEALTH AND HUMAN SERVICES

Substance Abuse and Mental Health Services Administration

Funding Opportunity Title: Child and Adolescent Mental Health and Substance Abuse State Infrastructure Grants (Short Title: Child and Adolescent SIG)

Announcement Type: Initial.

Funding Opportunity Number: SM 04-006.

Catalog of Federal Domestic Assistance (CFDA) Number: 93.243.

Due Date for Applications: June 3, 2004.

(Note: Letters from State Single Point of Contact (SPOC) in response to E.O. 12372 are due August 2, 2004.)

SUMMARY: The Substance Abuse and Mental Health Services Administration (SAMHSA), Center for Mental Health Services (CMHS) and the Center for Substance Abuse Treatment (CSAT) announce the availability of FY 2004 funds for Child and Adolescent Mental Health and Substance Abuse State Infrastructure Grants. A synopsis of this funding opportunity, as well as many other Federal Government funding opportunities, is also available at the Internet site: www.grants.gov.

For complete instructions, potential applicants must obtain a copy of SAMHSA's standard Infrastructure Grants Program Announcement (INF-04 PA (MOD)), and the PHS 5161-1 (Rev. 7/00) application form before preparing and submitting an application. The INF-04 PA (MOD) describes the general program design and provides instructions for applying for all SAMHSA Infrastructure Grants, including the Child and Adolescent SIG. Additional instructions and specific requirements for this funding opportunity are described below.

I. Funding Opportunity Description

Authority: 520A of the Public Health Service Act, as amended and subject to the availability of funds.

The Child and Adolescent Mental Health and Substance Abuse State Infrastructure Grants (Short Title: Child and Adolescent SIG) is one of SAMHSA's Infrastructure Grants. SAMHSA's Infrastructure Grants provide funds to increase the capacity of mental health and/or substance abuse service systems to support programs and services. SAMHSA's Infrastructure Grants are intended for applicants seeking Federal support to develop or enhance their service system infrastructure in order to support effective substance abuse and/or mental health service delivery.

The purpose of SAMHSA's Child and Adolescent SIG is to strengthen the capacity of States, territories, and Native American tribal governments to develop, expand and sustain substance abuse and mental health services including early intervention, treatment, and/or continuing services and supports at the local level for children, adolescents, and youth in transition, who have a serious emotional disturbance, substance abuse disorder, and/or co-occurring disorders, and their families. Applicants are expected to use grant funds to build the infrastructure necessary to promote, support, and sustain local service and treatment intervention capabilities for the target population across service delivery systems. The program is intended to provide sufficient flexibility and scope to enable States to determine whether they will focus on the entire target population or demographic/geographic subsets of the population.

The Child and Adolescent SIG Program is a critical part of the SAMHSA/CMHS effort to implement the President's New Freedom Commission on Mental Health Report. Therefore, activities carried out under this announcement must be focused on strengthening the capacity of States to transform their mental health system to meet the complex needs of children and youth with serious emotional disturbances and/or co-occurring substance abuse and mental health disorders and their families within home and community-based settings.

Background

For over a decade, SAMHSA has funded local demonstrations of promising treatment, and continuing services and supports for children, adolescents, and youth in transition who have a serious emotional disturbance, substance abuse disorder, and/or co-occurring disorders, and their families. A critical lesson provided by the local demonstrations is the difficulty of expanding and sustaining local capacity without the investment of key state-level stakeholders. Partnership between State and local stakeholders is essential to the development, sustainability and growth of effective early intervention and treatment systems.

Despite the increased efforts of many localities to engage in system-building efforts for the target population, state-level capacity often has not kept pace or has become diminished for a variety of reasons. In some instances, reorganizations in response to managed care or department consolidations have eliminated an identifiable state-level entity for children's mental health or adolescent substance abuse policies and programs. Devolution of service responsibility to local levels also has had an impact on state-level infrastructure, and, more recently, budget deficits are constraining state capacity. A priority focus of this new grant program is to strengthen the infrastructure in States, territories, and Native American tribes where there are existing local SAMHSA grant projects to ensure the sustainability and growth of these initiatives.

II. Award Information

1. Estimated Funding Available/Number of Awards: It is expected that up to $5.3 million will be available to fund up to seven awards in FY 2004. The maximum allowable award is $750,000 in total costs (direct and indirect) per year for five years. Proposed budgets cannot exceed the allowable amount in any year of the proposed project. The actual amount available for the awards may vary, depending on unanticipated program requirements and the number and quality of the applications received. Annual continuations will depend on the availability of funds, grantee progress in meeting program goals and objectives, and timely submission of required data and reports.

2. Funding Instrument: Grant.

III. Eligibility Information

1. Eligible Applicants are limited to States, the District of Columbia, territories and tribal governments. The application must be submitted by the Office of the Chief Executive of the State, territory or tribe. These funds are expected to increase capacity for Statewide and tribal wide changes that promote effective home and community-based mental health/substance abuse services across all service sectors. Therefore, investment of key state-level stakeholders is crucial to the development, sustainability and growth of effective early intervention and treatment systems. Additional information regarding program requirements and application formatting requirements is provided in the INF-04 PA (MOD) in Section III-3. These eligibility criteria supersede the criteria specified in Section III-1 of the INF-04 PA (MOD).

2. Cost Sharing or Matching is not required.

3. Other: Applicants must also meet certain application formatting and submission requirements or the application will be screened out and will not be reviewed. These requirements are described in Section IV-2 below as well as in the INF-04 PA (MOD).

IV. Application and Submission Information

1. Address to Request Application Package: Complete application kits may be obtained from the National Mental Health Information Center at 1-800-789-CMHS (2647). When requesting an application kit for this program, the applicant must specify the funding opportunity title (Child and Adolescent SIG) and the funding opportunity number (SM 04-006). All information necessary to apply, including where to submit applications and application deadline instructions, are included in the application kit. The PHS 5161-1 application form is also available electronically via SAMHSA's World Wide Web Home Page: http://www.samhsa.gov (Click on “Grant Opportunities”) and the INF-04 PA (MOD) is available electronically at http://www.samhsa.gov/grants/2004/standard/Infrastructure/index.asp.

When submitting an application, be sure to type “SM 04-006/Child and Adolescent SIG” in Item Number 10 on the face page of the application form. Also, SAMHSA applicants are required to provide a DUNS Number on the face page of the application. To obtain a DUNS Number, access the Dun and Bradstreet web site at www.dunandbradstreet.com or call 1-866-705-5711.

2. Content and Form of Application Submission: Information including required documents, required application components, and application formatting requirements is available in the INF-04 PA (MOD) in Section IV-2.

Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

• Type size in the Project Narrative cannot exceed an average of 15 characters per inch, as measured on the physical page. (Type size in charts, tables, graphs, and footnotes will not be considered in determining compliance.)

• Text in the Project Narrative cannot exceed 6 lines per vertical inch.

• Paper must be white paper and 8.5 inches by 11.0 inches in size.

• To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

• The page limit for Appendices stated in the specific funding announcement cannot be exceeded. To facilitate review of your application, follow these additional guidelines. Failure to adhere to the following guidelines will not, in itself, result in your application being screened out and returned without review. However, the information provided in your application must be sufficient for review. Following these guidelines will help ensure your application is complete, and will help reviewers to consider your application.

• The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

• Applications should comply with the following requirements:

• Provisions relating to confidentiality, participant protection and the protection of human subjects, as indicated in the specific funding announcement.

• Budgetary limitations as indicated in Sections I, II, and IV-5 of the specific funding announcement.

• Documentation of nonprofit status as required in the PHS 5161-1.

• Pages should be typed single-spaced with one column per page.

• Pages should not have printing on both sides.

• Please use black ink, and number pages consecutively from beginning to end so that information can be located easily during review of the application. The cover page should be page 1, the abstract page should be page 2, and the table of contents page should be page 3. Appendices should be labeled and separated from the Project Narrative and budget Section, and the pages should be numbered to continue the sequence.

• Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by June 3, 2004. You will be notified by postal mail that your application has been received. Additional submission information is available in the INF-04 PA (MOD) in Section IV-3.

4. Intergovernmental Review: Applicants for this funding opportunity must comply with Executive Order 12372 (E.O.12372). E.O.12372, as implemented through Department of Health and Human Services regulation at 45 CFR Part 100, sets up a system for State and local review of applications for Federal financial assistance. Instructions for complying with E.O. 12372 are provided in the INF-04 PA (MOD) in Section IV-4. A current listing of State Single Points of Contact (SPOCs) is included in the application kit and is available at www.whitehouse.gov/omb/grants/spoc.html.

5. Funding Restrictions: Information concerning funding restrictions is available in the INF-04 PA (MOD) in Section IV-5.

V. Application Review Information

1. Evaluation Criteria: Applications will be reviewed against Evaluation Criteria and requirements for the Project Narrative specified in the INF-04 PA (MOD). The following information describes exceptions or limitations to the INF-04 PA (MOD) and provides special requirements that pertain only to Child and Adolescent SIG grants. Applicants must discuss the following requirements in their applications, in addition to the requirements specified in the INF-04 PA (MOD):

1.1 In “Section B: Proposed Approach”

a. Applicants must describe the aspects of the substance abuse treatment and mental health service systems that will be affected by the proposed project and demonstrate that the proposed project cuts across service delivery systems.

b. Applicants must demonstrate that they have developed or are creating a partnership with relevant local SAMHSA-funded programs (e.g., CMHS Comprehensive Community Mental Health Services Program for Children and Their Families; CMHS Safe Schools, Healthy Students; CMHS State Mental Health Block Grant; CSAT Strengthening Communities/Youth; any relevant State Incentive Grant [SIG] project).

c. Applicants must provide evidence that the new grant program will strengthen the sustainability and growth of these local initiatives and include Memoranda of Understanding that outline roles and responsibilities of these organizations in Appendix 6 (Memoranda of Support) of the application.

d. Applicants must identify the universe of other relevant federally funded grants operating in the State and describe how the proposed project will be coordinated with these other Federally funded grants. A rationale should be presented, if it does not.

1.2 In “Section D: Evaluation and Data”

Applicants must document their ability to collect and report data using the Knowledge Application-Client Satisfaction tools which can be found at www.csat-gpra.samhsa.gov (Click on “Data Collection Tools/Instructions”).

1.3 Performance Measurement

All SAMHSA grantees are required to collect and report certain data, so that SAMHSA can meet its obligations under the Government Performance and Results Act (GPRA). Grantees of the Child and Adolescent SIG program will be required to report performance in several areas. Applicants must document their ability to collect and report data on the following indicators in “Section D: Evaluation and Data” of their application:

• Increase inclusion of family members and youth in planning, policy, and service delivery.

• Increase the use of evidence-based models/interventions.

• Increase the use of culturally and linguistically competent practices.

• Increase the use of training to build an effective workforce.

• Increase adaptation statewide of promising local grant project practices.

• Increase access statewide to effective treatment and continuing services and supports for the target population.

In addition, SAMHSA grantees will measure customer satisfaction related to training, technical assistance, and meetings conducted with grant funds. SAMHSA will work with grantees to finalize a standard methodology related to these indicators shortly after award.

2. Review and Selection Process: Information about the review and selection process is available in the INF-04 PA (MOD) in Section V-2.

VI. Award Administration Information

Award administration information, including award notices, administrative and national policy requirements, and reporting requirements are available in the INF-04 PA (MOD). SAMHSA's standard terms and conditions are available at www.samhsa.gov/grants/2004/useful_info.asp.

VII. Agency Contact for Additional Information

For questions about program issues contact: Diane L. Sondheimer, Child, Adolescent, and Family Branch, SAMHSA/CMHS, 5600 Fishers Lane, Room 11C-16, Rockville, MD 20857; 301-443-1334; E-mail: dsondhei@samhsa.gov or Randolph D. Muck, Team Leader/Public Health Advisor, SAMHSA/CSAT; 301-443-6574; rmuck@samhsa.gov. For questions on grants management issues contact: Gwendolyn Simpson, SAMHSA/Division of Grants Management, 5600 Fishers Lane, Room 13-103, Rockville, MD 20857; 301-443-4456; E-mail: gsimpson@samhsa.gov.

Dated: March 17, 2004.
Margaret M. Gilliam,
Acting Director, Office of Policy, Planning and Budget, Substance Abuse and Mental Health Services Administration.

[FR Doc. 04-6373 Filed 3-22-04; 8:45 am]

BILLING CODE 4162-20-P